DEPARTMENT OF ENERGY

Energy Information Administration

Agency Information Collection Extension With Changes

AGENCY: U.S. Energy Information Administration, Department of Energy.

ACTION: Notice and Request for OMB Review and Comment.

SUMMARY: The Energy Information Administration (EIA) has submitted an information collection request to the OMB for extension under the provisions of the Paperwork Reduction Act of 1995. The information collection requests a three-year extension of its Quarterly Electricity Imports and Exports Report, OMB Control Number 1905-0208. The proposed collection is a census of companies that (1) import or export electricity, (2) operate electric systems to cause the flow of electricity, or (3) own transmission facilities that make possible the flow of electricity across U.S. international borders. The volume of physical electricity imports and exports is reported as transaction volumes, implemented and actual interchange, and metered flow. Transaction volumes are reported with their associated transaction characteristics and payments or receipts. The collection supports the U.S. Department of Energy's regulation of cross border transmission/distribution facilities and electricity exports.

DATES: Comments regarding this proposed information collection must be received on or before August 17, 2015. If you anticipate that you will be submitting comments, but find it difficult to do so within the period of time allowed by this notice, please advise the DOE Desk Officer at OMB of your intention to make a submission as soon as possible. The Desk Officer may be telephoned at 202-395-4718.

ADDRESSES: Written comments should be sent to the DOE Desk Officer,Office of Information and Regulatory Affairs, Office of Management and Budget,New Executive Office Building, Room 10102, 735 17th Street NW., Washington, DC 20503.

And to William Booth by fax at (202) 287-1960, or by email at William.booth@eia.gov.

FOR FURTHER INFORMATION CONTACT: Requests for additional information or copies of the information collection instrument and instructions should be directed to William Booth at William.booth@eia.gov. The draft form and instructions are available at http://www.eia.gov/survey/changes/ electricity/.

SUPPLEMENTARY INFORMATION:

This information collection request contains:

(1) OMB No. 1905-0208;

(2) Information Collection Request Title: Quarterly Electricity Imports and Exports Report;

(3) Type of Request: Revision of a currently approved collection;

(4) Purpose: Form EIA-111 collects U.S. electricity import and export data. The data are used to get an accurate measure of the flow of electricity into and out of the United States. The import and export data are reported by U.S. purchasers, sellers and transmitters of electricity, including persons authorized by Order to export electric energy from the United States to foreign countries, persons authorized by Presidential Permit to construct, operate, maintain, or connect electric power transmission lines that cross the U.S. international border, and U.S. Balancing Authorities that are directly interconnected with foreign Balancing Authorities. Such entities are to report monthly data on aggregate flows of electric energy received and delivered across the border, the cost associated with the transactions, metered flows over transfer facilities and actual and implemented interchange on a quarterly reporting cycle. The data collected on this form may appear in various EIA publications;

(4a) Proposed Changes to Information Collection: The data element “Transfer Facility's Presidential Permit numbers” is changed to “Transmission Provider/Transfer Facility(ies)” in the sections “Imports into the U.S. from Canada or Mexico,” “Exports from the U.S. to Canada or Mexico.” and “Implemented Interchange.” A new section for reporting “Metered Flow on Transfer Facilities” is added to collect monthly metered cross border flow over Presidential Permit holders and other transfer facilities;

(5) Annual Estimated Number of Respondents: 176;

(6) Annual Estimated Number of Total Responses: 704;

(7) Annual Estimated Number of Burden Hours: 1056;

(8) Annual Estimated Reporting and Recordkeeping Cost Burden: EIA estimates that there are no additional costs to respondents associated with the surveys other than the costs associated with the burden hours. The information is maintained in the normal course of business. The cost of burden hours to the respondents is estimated to be $76,000 (1,056 burden hours times $71.97 per hour). Therefore, other than the cost of burden hours, EIA estimates that there are no additional costs for generating, maintaining and providing the information.

Statutory Authority: Section 13(b) of the Federal Energy Administration Act of 1974, Public Law 93-275, codified at 15 U.S.C. 772(b).

Issued in Washington, DC, on July 10, 2015.
Nanda Srinivasan,
Director, Office of Survey Development and Statistical Integration, U.S. Energy Information Administration.

[FR Doc. 2015-17444 Filed 7-15-15; 8:45 am]

BILLING CODE 6450-01-P